DEPARTMENT OF TRANSPORTATION

Office of the Secretary

Notice of Applications for Certificates of Public Convenience and Necessity and Foreign Air Carrier Permits Filed Under Subpart B (Formerly Subpart Q) During the Week Ending September 24, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-19077-20.

Date Filed: September 22, 2004.

Due Date for Answers, Conforming Applications, or Motion to Modify Scope: N/A.

Description: Application of Delta Air Lines, Inc., requesting a certificate of public convenience and necessity to engage in scheduled foreign air transportation of persons, property and mail between the United States and the People's Republic of China. Delta also requests an allocation of seven (7) U.S.-China combination frequencies to fund its Atlanta-Beijing service.

Docket Number: OST-2004-19077-21.

Date Filed: September 22, 2004.

Due Date for Answers, Conforming Applications, or Motion to Modify Scope: N/A.

Description: Application of North American Airlines, Inc., requesting a temporary, experimental certificate of public convenience and necessity to provide scheduled foreign air transportation of persons, property and mail between the United States and the People's Republic of China, and allocation of seven weekly U.S. carrier combination frequencies to become effective March 25, 2005, and an additional seven frequencies to become effective March 2006.

Docket Number: OST-2004-19077-22.

Date Filed: September 22, 2004.

Due Date for Answers, Conforming Applications, or Motion to Modify Scope: N/A.

Description: Application of Hawaiian Airlines, Inc. requesting a certificate of public convenience and necessity to provide foreign air transportation of persons, property and mail to and from the United States and the People's Republic of China and frequencies (four per week) designating Hawaiian to the People's Republic of China to operate combination service between Honolulu, HI on the one hand and Shanghai, People's Republic of China on the other and points behind the gateway (Honolulu) in the United States, commencing service in 2006.

Docket Number: OST-2004-19077-26

Date Filed: September 22, 2004.

Due Date for Answers, Conforming Applications, or Motion to Modify Scope: N/A.

Description: Application of World Airways, Inc. (“World”), requesting a certificate of public convenience and necessity to engage in scheduled foreign air transportation of property and mail from a point or points in the United States, via intermediate points to a point or points in the People's Republic of China and beyond. World seeks the designation available for all-cargo services under the U.S.-China Air Transport Services agreement as of March 25, 2006.

Docket Number: OST-2004-19077-27.

Date Filed: September 22, 2004.

Due Date for Answers, Conforming Applications, or Motion to Modify Scope: N/A.

Description: Application of American Airlines, Inc., requesting a certificate of public convenience and necessity to engage in scheduled foreign air transportation of persons, property, and mail between points in the United States, on the one hand, and Shanghai, Guangzhou, Beijing, and two additional points in the People's Republic of China, on the other hand, either nonstop or via intermediate points. American Airlines, Inc. also requests an allocation of seven weekly U.S.-China combination frequencies. Finally, American Airlines, Inc. requests route integration with its other certifications and exemptions to conduct scheduled foreign air transportation of persons, property, and mail.

Docket Number: OST-2004-19077-28.

Date Filed: September 22, 2004.

Due Date for Answers, Conforming Applications, or Motion to Modify Scope: N/A.

Description: Application of Tradewinds Airlines, Inc. requesting (1) Issuance of certificate of public convenience and necessity authorizing it to engage in scheduled foreign air transportation of property and mail from a point in the United States, via intermediate points, to a point or points in the People's Republic of China open to scheduled international operations, and beyond; and (2) allocation of twelve (12) weekly all-cargo frequencies that become available March 25, 2006.

Docket Number: OST-2004-19077-29.

Date Filed: September 22, 2004.

Due Date for Answers, Conforming Applications, or Motion to Modify Scope: N/A.

Description: Application of Evergreen International Airlines, Inc. requesting a certificate of public convenience and necessity to engage in scheduled foreign air transportation of property and mail between a point or points in the United States, via intermediate points, and the co-terminal points of Beijing and Shanghai, China. Evergreen also seeks authority to integrate this authority with its existing certificate and exemption authority and to commingle traffic consistent with applicable aviation agreements. Further, Evergreen seeks the new designation to China available March 25, 2006 along with an allocation of seven weekly round trip frequencies available beginning on March 25, 2006.

Docket Number: OST-2004-19077-30.

Date Filed: September 22, 2004.

Due Date for Answers, Conforming Applications, or Motion to Modify Scope: N/A.

Description: Application of Gemini Air Cargo, Inc. requesting a certificate of convenience and necessity to operate scheduled foreign air transportation of property and mail from a point or points in the United States, via intermediate points, to a point or points in the People's Republic of China open to scheduled international operations, and beyond. Gemini also seeks designation as the next U.S. scheduled all-cargo carrier to China and asks the Department to allocate to Gemini the twelve all-cargo frequencies that will be available on March 25, 2006.

Docket Number: OST-2004-19077-31.

Date Filed: September 22, 2004.

Due Date for Answers, Conforming Applications, or Motion to Modify Scope: N/A.

Description: Application of Continental Airlines, Inc. requesting a certificate of public convenience and necessity authorizing Continental to engage in scheduled foreign air transportation of persons, property and mail between New York/Newark and Beijing and Shanghai, an allocation of seven weekly U.S.-China frequencies in 2005 and seven additional frequencies in 2006 and authority to integrate this authority with Continental's other certificate and exemption authority and to grant such other relief as the public interest may require.

Docket Number: OST-2004-19077-32.

Date Filed: September 22, 2004.

Due Date for Answers, Conforming Applications, or Motion to Modify Scope: N/A.

Description: Application of Northwest Airlines, Inc. requesting: (1) An allocation of eight of the twelve all-cargo frequencies available to designated U.S. carriers effective March 25, 2006 under the recently amended aviation agreement between the United States and People's Republic of China (PRC); (2) a temporary, experimental certificate of public convenience and necessity authorizing Northwest to provide scheduled foreign air transportation of property and mail between a point or points in the United States, via any intermediate points, to a point or points in China open to scheduled international operations, and beyond to any points outside of China, with full traffic rights; and (3) authority to integrate Northwest's existing exemption and certificate authority with the new certificate authority sought herein.

Docket Number: OST-2004-19189-1.

Date Filed: September 22, 2004.

Due Date for Answers, Conforming Applications, or Motion to Modify Scope: October 13, 2004.

Description: Application of Centurion Air Cargo, Inc. requesting a certificate of public convenience and necessity, and to the extent necessary, designations, authorizing Centurion to engage in scheduled foreign air transportation of property and mail to and from the sixty-four countries listed herein that have concluded “open skies” aviation agreements or “open skies” all-cargo scheduled service amendments with the United States.

Andrea M. Jenkins,
Program Manager, Docket Operations, Federal Register Liaison.

[FR Doc. 04-22501 Filed 10-5-04; 8:45 am]

BILLING CODE 4910-62-P